FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's website (www.fmc.gov) or by contacting the Office of Agreements at (202)-523-5793 or tradeanalysis@fmc.gov.

Agreement No.: 201200-001.

Title: Houston Marine Terminal Operators/Freight Handlers Agreement.

Parties: Ceres Gulf Inc.; Cooper/Ports America LLC; and SSA Gulf, Inc.

Filing Party: Shareen Larmond; West Gulf Maritime Association; 1717 Turning Basin Drive, Suite 200; Houston, Texas 77029.

Synopsis: The amendment updates the membership of the Agreement and makes other administrative changes.

By Order of the Federal Maritime Commission.
Dated: January 5, 2018.
Rachel E. Dickon,
Assistant Secretary.

[FR Doc. 2018-00289 Filed 1-9-18; 8:45 am]

BILLING CODE 6731-AA-P